DEPARTMENT OF ENERGY

Environmental Management Site-Specific Advisory Board, Oak Ridge

AGENCY: Office of Environmental Management, Department of Energy.

ACTION: Notice of open meeting.

SUMMARY: This notice announces a meeting of the Environmental Management Site-Specific Advisory Board (EM SSAB), Oak Ridge. The Federal Advisory Committee Act requires that public notice of this meeting be announced in the Federal Register.

DATES: Saturday, August 13, 2022; 9:00 a.m.-2:30 p.m.

ADDRESSES: The meeting will be held, strictly following COVID-19 precautionary measures, at: Tremont Lodge, 7726 E Lamar Alexander Parkway, Townsend, Tennessee 37882.

FOR FURTHER INFORMATION CONTACT: Melyssa P. Noe, Alternate Deputy Designated Federal Officer, U.S. Department of Energy, Oak Ridge Office of Environmental Management (OREM), P.O. Box 2001, EM-942, Oak Ridge, TN 37831; Phone (865) 241-3315; or E-Mail: Melyssa.Noe@orem.doe.gov. Or visit the website at https://www.energy.gov/orem/services/community-engagement/oak-ridge-site-specific-advisory-board.

SUPPLEMENTARY INFORMATION:

Purpose of the Board: The purpose of the Board is to make recommendations to DOE-EM and site management in the areas of environmental restoration, waste management, and related activities.

Tentative Agenda

• Presentation: OREM Program Overview and Updates

• Process and Plan for Issue Group Signup

• Work Plan Topics: Presentations by DOE, Tennessee Department of Environment and Conservation, and Environmental Protection Agency Liaisons

• Public Comment Period

• Board Review of Fiscal Year 2021: Mission and Accomplishments, and Results of Member Survey

• Motions/Approval of June 8, 2022 Meeting Minutes

• Remarks: End of Day Meeting Evaluation

• Follow-on Discussion

Public Participation: The meeting is open to the public. In addition to participation in the live public comment period, written statements may be filed with the Board via email either before or after the meeting. Public comments received by no later than 5:00 p.m. EDT on Friday, August 5, 2022, will be read aloud during the meeting. Comments will be accepted after the meeting, by no later than 5:00 p.m. EDT on Wednesday, August 17, 2022. Please submit comments to orssab@orem.doe.gov. The Deputy Designated Federal Officer is empowered to conduct the meeting in a fashion that will facilitate the orderly conduct of business. Individuals wishing to make live public comments will be provided a maximum of five minutes to present their comments. Individuals wishing to submit written public comments should email them as directed above.

Minutes: Minutes will be available by emailing or calling Melyssa P. Noe at the email address and telephone number listed above. Minutes will also be available at the following website: https://www.energy.gov/orem/listings/oak-ridge-site-specific-advisory-board-meetings.

Signed in Washington, DC, on July 14, 2022.
LaTanya Butler,
Deputy Committee Management Officer.

[FR Doc. 2022-15375 Filed 7-18-22; 8:45 am]

BILLING CODE 6450-01-P